ENVIRONMENTAL PROTECTION AGENCY

[FRL-8946-4]

Clean Water Act Section 303(d): Availability of 12 Total Maximum Daily Loads (TMDL) in Louisiana

AGENCY: Environmental Protection Agency (EPA).

ACTION: Notice of availability.

SUMMARY: This notice announces the availability for comment of the administrative record files for 12 TMDLs and the calculations for these TMDLs prepared by EPA Region 6 for waters listed in the Atchafalaya River and the Mississippi River Basins of Louisiana, under Section 303(d) of the Clean Water Act (CWA). These TMDLs were completed in response to a court order in the lawsuit styled Sierra Club, et al. v. Clifford, et al., No. 96-0527, (E.D. La.).

DATES: Comments must be submitted in writing to EPA on or before September 21, 2009.

ADDRESSES: Comments on the 12 TMDLs should be sent to Diane Smith, Environmental Protection Specialist, Water Quality Protection Division, U.S. Environmental Protection Agency Region 6, 1445 Ross Ave., Dallas, TX 75202-2733 or e-mail: smith.diane@epa.gov. For further information, contact Diane Smith at (214) 665-2145 or fax 214.665.7373. The administrative record files for the 12 TMDLs are available for public inspection at this address as well. Documents from the administrative record files may be viewed at http://www.epa.gov/earth1r6/6wq/npdes/tmdl/index.htm, or obtained by calling or writing Ms. Smith at the above address. Please contact Ms. Smith to schedule an inspection.

FOR FURTHER INFORMATION CONTACT: Diane Smith at (214) 665-2145.

SUPPLEMENTARY INFORMATION: In 1996, two Louisiana environmental groups, the Sierra Club and Louisiana Environmental Action Network (plaintiffs), filed a lawsuit in Federal Court against the EPA, styled Sierra Club, et al. v. Clifford, et al., No. 96-0527, (E.D. La.). Among other claims, plaintiffs alleged that EPA failed to establish Louisiana TMDLs in a timely manner. EPA proposes 12 of these TMDLs pursuant to a consent decree entered in this lawsuit.

EPA Seeks Comment on 12 TMDLs

By this notice EPA is seeking comment on the following 12 TMDLs for waters located within Louisiana basins:

Subsegment | Waterbody name | Pollutant
070203 | Devil's Swamp Lake and Bayou Baton Rouge | Lead, and Turbidity.
070503 | Capitol Lake | Dissolved Oxygen, Total Phosphorus, and Total Nitrogen.
070504 | Monte Sano Bayou | Chloride.
010301 | West Atchafalaya Basin Floodway | Mercury.
010401 | East Atchafalaya Basin and Morganza Floodway South to Interstate 10 Canal | Mercury.
010501 | Lower Atchafalaya Basin Floodway | Mercury.
010601 | Crow Bayou, Bayou Blue, and Tributaries | Chloride, Sulfate, and TDS.

EPA requests that the public provide to EPA any water quality related data and information that may be relevant to the calculations for the 12 TMDLs. EPA will review all data and information submitted during the public comment period and revise the TMDLs where appropriate. EPA will then forward the TMDLs to the Louisiana Department of Environmental Quality (LDEQ). The LDEQ will incorporate the TMDLs into its current water quality management plan.

Dated: August 7, 2009.
Claudia Hosch,
Acting Director, Water Quality Protection Division, EPA Region 6.

[FR Doc. E9-20027 Filed 8-19-09; 8:45 am]

BILLING CODE 6560-50-P